NATIONAL COMMISSION ON LIBRARIES AND INFORMATION SCIENCE

Meeting Notice

AGENCY: National Commission on Libraries and Information Science, (NCLIS).

ACTION: Notice of meetings.

SUMMARY: The U.S. National Commission on Libraries and Information Science is holding an open business meeting to discuss Commission programs and administrative matters. Topics will include reports on current activities, including the Commission's project, “Trust and Terror,” dealing with the role of libraries in managing crisis information, and its project with UNESCO and the National Forum on Information Literacy to develop an international conference on information literacy. Also, Commissioners will be briefed on the continuing Library Statistics Program coordinated by the NCLIS staff and will discuss plans for orientation of new Commissioners expected to be named by the White House in the near future.

Date and Time: NCLIS Business Meeting—May 16, 2003, 9 a.m. until 1 p.m.

Address: The South Valleys Branch Library, 15650A Wedge Parkway, Reno, NV 89511.

Status: Open meeting.

SUPPLEMENTARY INFORMATION: The business meeting is open to the public, subject to space availability. To make special arrangements for physically challenged persons, contact Madeleine McCain, Director of Operations, 1110 Vermont Avenue, NW., Suite 820, Washington, DC 20005, e-mail mmccain@nclis.gov, fax 202-606-9203 or telephone 202-606-9200.

Summary: The U.S. National Commission on Libraries and Information Science is also holding a closed meeting to review the nominations for the National Award for Library Service on the afternoon of May 15. Closing this meeting is in accordance with the exemption provided under title 45 CFR 1703.202(a)(9).

Date and Time: NCLIS closed meeting—May 15, 2003, 2 p.m.—5 p.m.

Address: Reno, NV.

Status: Closed meeting.

FOR FURTHER INFORMATION CONTACT: Madeleine McCain, Director of Operations, U.S. National Commission on Libraries and Information Science, 1110 Vermont Avenue, NW., Suite 820, Washington, DC 20005, e-mail mmccain@nclis.gov, fax 202-606-9203 or telephone 202-606-9200.

Dated: April 23, 2003.
Robert S. Willard,
NCLIS Executive Director.

[FR Doc. 03-10568 Filed 4-29-03; 8:45 am]

BILLING CODE 7527-01-P